DEPARTMENT OF TRANSPORTATION

Federal Highway Administration

Environmental Assessment or Environmental Impact Statement; Hocking and Athens Counties, Ohio

AGENCY: Federal Highway Administration (FHWA), DOT.

ACTION: Notice of intent.

SUMMARY: The FHWA is issuing this notice to advise the public that an environmental assessment or environmental impact statement will be prepared for transportation improvements proposed for the U.S. Route 33 corridor in Hocking and Athens Counties, Ohio.

FOR FURTHER INFORMATION CONTACT: Andreas Garnes, Rural Programs Engineer, Federal Highway Administration, 200 N. High Street, Room 328, Columbus, Ohio 43215, Telephone: (614) 280-6856.

SUPPLEMENTARY INFORMATION: The FHWA, in cooperation with the Ohio Department of Transportation (ODOT), will prepare an environmental assessment (EA) or environmental impact statement (EIS) on a proposal that will consider transportation improvements to U.S. Route 33 from the existing four-lane section west of the City of Nelsonville in Hocking County to the existing four-lane section east of Nelsonville in Athens County, Ohio.

A transportation investment is considered necessary to improve the regional transportation network by providing an improved travel corridor; to reduce anticipated congestion on existing U.S. Route 33 from projected traffic volumes; to improve safety on the existing highway system; and to support existing industry and future development through improved access to southeastern Ohio.

Actions under consideration include: (1) Taking no action; (2) upgrading existing U.S. Route 33 through Nelsonville; or (3) constructing a roadway on new alignment bypassing the City of Nelsonville.

Letters describing the proposed action and soliciting comments will be sent to appropriate Federal, State, and local agencies, and to private organizations and citizens who have previously expressed or are known to have interest in this proposal. A series of public meetings will be held in the project area. These are currently anticipated for Spring and Summer of 2001. In addition, a hearing will be held in conjunction with the EA or draft EIS early in 2002. Public notice will be given of the exact time and place of the meetings and hearing for the project. The EA or Draft EIS will be available for public and agency review and comment prior to the public hearing. No formal scoping meeting is planned at this time.

To ensure that the full range of issues related to this proposed action are addressed and all significant issues identified, comments and suggestions are invited from all interested parties. Comments or questions concerning this proposed action or the EA/EIS should be directed to the FHWA at the address provided above.

(Catalog of Federal Domestic Assistance Program Number 20.205, Highway Planning and Construction. The regulations implementing Executive Order 12372 regarding intergovernmental consultation on Federal programs and activities apply to this program.)

Issued on: April 9, 2001.
Andreas Garnes,
Rural Program Engineer, Federal Highway Administration, Columbus, Ohio.

[FR Doc. 01-9441 Filed 4-16-01; 8:45 am]

BILLING CODE 4910-22-P